DEPARTMENT OF COMMERCE

National Oceanic and Atmospheric Administration

AGENCY: Office of Ocean and Coastal Resource Management, National Ocean Service, National Oceanic and Atmospheric Administration (NOAA), DOC.

ACTION: Notice of intent to evaluate.

SUMMARY: The NOAA Office of Ocean and Coastal Resource Management (OCRM) announces its intent to evaluate the performance of the North Carolina Coastal Management Program and the Connecticut Coastal Management Program.

These Coastal Zone Management Program evaluations will be conducted pursuant to section 312 of the Coastal Zone Management Act of 1972 (CZMA), as amended and regulations at 15 CFR part 923, subpart L.

The CZMA requires continuing review of the performance of states with respect to coastal program implementation. Evaluation of Coastal Zone Management Programs requires findings concerning the extent to which a state has met the national objectives, adhered to its Coastal Management Program document approved by the Secretary of Commerce, and adhered to the terms of financial assistance awards funded under the CZMA.

The evaluation will include a site visit, consideration of public comments, and consultations with interested Federal, State, and local agencies and members of the public. Public meetings will be held as part of the site visit.

Notice is hereby given of the dates of the site visits for these evaluations, and the dates, local times, and locations of the public meetings during the site visit.

The North Carolina Coastal Management Program evaluation site visit will be held March 10-14, 2003. Three public meetings will be held during the week. The public meetings will be: On Monday, March 10, 2003, at 6 p.m., at the North Carolina Department of Environment and Natural Resources/Wilmington Regional Office, Conference Room, 127 Cardinal Drive Ext., Wilmington, North Carolina; on Tuesday, March 11, 2003, at 6 p.m., at the Carteret County Courthouse, District Courtroom, Courthouse Square, Beaufort, North Carolina; and Wednesday, March 12, 2003, at 6 p.m., at Manteo Town Hall, Board of Commissioners Meeting Room, 407 Budleigh Street, Manteo, North Carolina.

The Connecticut Coastal Management Program evaluation site visit will be held March 31-April 4, 2003. One public meeting will be held during the week. The public meeting will be held on Wednesday, April 2, 2003, at 7 p.m., at the Department of Environmental Protection Marine Headquarters, Training Room, Building #3, 333 Ferry Road, Old Lyme, Connecticut.

Copies of North Carolina's and Connecticut's most recent performance reports, as well as OCRM's notification and supplemental request letters to the states, are available upon request from OCRM. Written comments from interested parties regarding these Programs are encouraged and will be accepted until 15 days after the last public meeting. Please direct written comments to Ralph Cantral, Chief, National Policy and Evaluation Division, Office of Ocean and Coastal Resource Management, NOS/NOAA, 1305 East-West Highway, 10th floor, Silver Spring, Maryland 20910. When each evaluation is completed, OCRM will place a notice in the Federal Register announcing the availability of the final evaluation findings.

FOR FURTHER INFORMATION CONTACT: Ralph Cantral, Chief, National Policy and Evaluation Division, Office of Ocean and Coastal Resource Management, NOS/NOAA, 1305 East-West Highway, Silver Spring, Maryland 20910, (301) 713-3155, Extension 118.

Federal Domestic Assistance Catalog 11.419, Coastal Zone Management Program Administration
Dated: January 14, 2003.
Alan Neuschatz,
Chief Financial Officer/Chief, Administrative Officer for Ocean Services and Coastal Zone Management.

[FR Doc. 03-1292 Filed 1-21-03; 8:45 am]

BILLING CODE 3510-08-M